ENVIRONMENTAL PROTECTION AGENCY

[FRL-6732-5]

Scientific Peer-Review Meeting To Review Draft Document on Ecological Soil Screening Level Guidance

AGENCY: Environmental Protection Agency.

ACTION: Notice of Peer-Review Panel Workshop.

SUMMARY: The U.S. Environmental Protection Agency (EPA) is announcing that Versar, Inc., an EPA contractor for external scientific peer review, will organize, convene, and conduct an external peer-review panel workshop to review the external review draft document titled, Ecological Soil Screening Level Guidance. The document was prepared by an EPA-lead multi-stakeholder process with participants from EPA (the Office of Solid Waste and Emergency Response (OSWER), the Office of Research and Development (ORD), and the Regions), Environment Canada, the U.S. Department of Energy (DOE), the U.S. Department of Defense (DoD), states, academia, industry, and consultants. The EPA will consider the peer-review advice and comments in revising the document.

DATES: The peer-review panel workshop will be held Wednesday, July 26, 2000, from 8:30 a.m. until 5:00 p.m. and Thursday, July 27, from 8:30 a.m. until Noon. Members of the public may attend as observers, and there will be a limited time for comments from the public.

ADDRESSES: The external peer-review panel workshop will be held at the Crystal City Marriott Hotel, 1999 Jefferson Davis Highway, Arlington, Virginia. Versar, Inc., an EPA contractor, is organizing, convening, and conducting the peer-review workshop. To attend the workshop, please register by July 24, 2000, by calling Mr. Amanjit Paintal, Versar, Inc., 6850 Versar Center, Springfield, VA 22151 at 703-750-3000 extension 449, or send a facsimile to 703-642-6954. You can also register via email at paintama@versar.com. Space is limited, and registrations will be accepted on a first-come, first-served basis. There will be a limited time for comments from the public during the workshop. Please let Versar, Inc., know if you wish to make comments.

The draft guidance document on ecological soil screening levels is available on the Internet at http://www.epa.gov/superfund/programs/risk/tooleco.htm. A limited number of paper copies are available from Versar. If you are requesting a paper copy, please provide your name, mailing address, and the document title, Ecological Soil Screening Level Guidance. Copies are available from Versar, Inc. by calling Mr. Amanjit Paintal, Versar, Inc., 6850 Versar Center, Springfield, VA 22151 at 703-750-3000 extension 449, or send a facsimile to 703-642-6954. You can also request a copy by e-mail by writing to paintama@versar.com.

FOR FURTHER INFORMATION CONTACT: For workshop information, registration, and logistics, contact Mr. Amanjit Paintal, Versar, Inc., 6850 Versar Center, Springfield, VA 22151, at 703-750-3000 extension 449 or via email at paintama@versar.com.

For technical information, contact Steve Ells, OSWER, telephone: 703-603-8822, facsimile: 703-603-9100, e-mail: ells.steve@epa.gov; or Randy Wentsel, ORD, telephone: 202-564-3214, facsimile: 202-565-0050, e-mail: wentsel.randy@epa.gov.

SUPPLEMENTARY INFORMATION: The purpose of the document is to put forward procedures to develop scientifically sound, ecologically based, soil screening levels that are protective of the terrestrial environment for up to 24 chemicals of concern. As part of the process, methodologies and models that use site-specific exposure data to modify these screening levels are presented.

Although several different entities (Oak Ridge National Laboratory, the Canadian Council of Ministers of the Environment, the Dutch National Institute of Public Health and the Environment, and the Ontario Ministry of Environment and Energy) have developed sets of soil screening levels, benchmarks, or preliminary remediation goals for many contaminants, EPA has not embraced any specific approach for use nationally at all Superfund sites. Although some EPA Regional Offices, Federal agencies, states and contractors use one or more of these approaches, many do not and instead perform literature searches for toxicity data on each of the chemicals of potential concern and develop site-specific soil concentrations to be used as screening levels for the site under investigation. This repetitious approach can be very costly and time-consuming.

In order to improve national consistency and to conserve resources, an effort was made to form a multi-stakeholder process to develop scientifically sound, ecologically-based, soil screening levels, and many have participated, e.g., EPA, DoD, DOE, states, industry, and consultants. This collaborative project is expected to result in a Superfund guidance document that includes generic ecological soil screening levels (Eco-SSLs) for up to 24 chemicals that are frequently of ecological concern at Superfund sites. These Eco-SSLs will be soil concentrations that are expected to be protective of the mammalian, avian, plant, and soil invertebrates communities that could be exposed to the chemicals of concern. These Eco-SSLs will be conservative in order to be confident that chemicals that could present an unacceptable risk are not screened out early in the risk assessment process. The process used to develop this first set of Eco-SSLs can also be used to develop additional screening levels for other chemicals.

The participants produced draft Eco-SSLs for mammals, birds, plants, and soil biota. The plant and soil biota values were developed from available plant and soil invertebrate toxicity test data. The mammal and bird benchmarks were back-calculated from a hazard quotient of 1.0 using animal toxicity data and a small number of generic food chain models. The lowest reasonable Eco-SSL for each chemical will then be used to screen chemicals found at sites. These generic (i.e., not site-specific) Eco-SSLs will be used during Step 2 of the Superfund Ecological Risk Assessment (ERA) process (Ecological Risk Assessment Guidance for Superfund; Process for Designing and Conducting Ecological Risk Assessments, 1997), when there often are only limited site-specific data available. These levels represent a set of screening ecotoxicity values that can be used routinely to identify those chemicals of potential concern (COPCs) in soils requiring further evaluation in a baseline ecological risk assessment; they are not national cleanup standards.

Dated: July 3, 2000.
William H. Farland,
Director, National Center for Environmental Assessment.

[FR Doc. 00-17350 Filed 7-7-00; 8:45 am]

BILLING CODE 6560-50-P